OFFICE OF PERSONNEL MANAGEMENT

Comment Request for Review of Information Collection: CyberCorps®: Scholarship for Service (SFS) Registration System; OMB No. 3206-0246

AGENCY: Office of Personnel Management.

ACTION: 30-Day notice and request for comments.

SUMMARY: The Office of Personnel Management (OPM), Human Resources Solutions Division, offers the general public and other federal agencies the opportunity to comment on an existing information collection request (ICR) 3206-0246, SFS Registration System. The information collection was previously published in the Federal Register on April 1, 2021 allowing for a 60-day public comment period. No comments were received for this information collection. The purpose of this notice is to allow an additional 30 days for public comments.

DATES: Comments on this proposal should be received within 30 calendar days from the date of this publication. This process is conducted in accordance with 5 CFR 1320.10.

ADDRESSES: Interested persons are invited to submit written comments on the proposed information collection to the Office of Information and Regulatory Affairs, Office of Management Budget, 725 17th Street NW, Washington, DC 20503, Attention: Desk Officer for the Office of Personnel Management or by electronic mail to oira_submission@omb.eop.gov or faxed to (202) 395-6974; Washington, DC 20503.

FOR FURTHER INFORMATION CONTACT: A copy of this ICR, with applicable supporting documentation, may be obtained by contacting the Office of Personnel Management Mid-Atlantic Services Branch, Attention: Stephanie Travis, 200 Granby Street, Suite 500, Norfolk, VA 23510-1886, or via electronic email to: sfs@opm.gov, by calling 202-579-4951, or fax (816) 541-8103.

SUPPLEMENTARY INFORMATION: The SFS Program was established by the National Science Foundation, in collaboration with the Office of Personnel Management and the Department of Homeland Security, in accordance with section 302 of the Cybersecurity Enhancement Act of 2014, as amended (15 U.S.C. 7442). This initiative reflects the critical need for Information Technology (IT) professionals, industrial control system security professionals, and security managers in government. Students identified by their institutions for SFS Scholarships must meet selection criteria established by the participating institution and SFS eligibility requirements set forth in 15 U.S.C. 7442(f)). Each scholarship recipient, as a condition of receiving a scholarship under the program, enters into an agreement under which the recipient agrees to participate in meaningful summer internship opportunities or other meaningful temporary appointments in the Federal information technology and cybersecurity workforce during the scholarship period, and work for a period equal to the length of the scholarship, following receipt of the student's degree, in the cyber security mission of—

(1) an executive agency (as defined in section 105 of title 5, United States Code);

(2) Congress, including any agency, entity, office, or commission established in the legislative branch;

(3) an interstate agency;

(4) a State, local, or Tribal government;

(5) a State, local, or Tribal government-affiliated non-profit that is considered to be critical infrastructure (as defined in section 5195c(e) of title 42); or

(6) as provided by subsection (b)(3)(B), a qualified institution of higher education.

Approval of the CyberCorps®: Scholarship for Service (SFS) Registration system is necessary to continue management and operation of the program in accordance with the Cybersecurity Enhancement Act of 2014, as amended (15 U.S.C. 7442), and to facilitate the timely registration, selection and placement of program-enrolled students in Government agencies.

In accordance with 44 U.S.C. 3507, this notice announces the Office of Personnel Management (OPM), Human Resources Solutions Division has submitted to the Office of Management and Budget (OMB) a request for review of a previously approved Information Collection Request (ICR), 3206-0246, SFS Registration, for which approval will expire September 19, 2021. The Office of Management and Budget is particularly seeking comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: CyberCorps®: Scholarship for Service, Office of Personnel Management.

Title: Scholarship for Service (SFS) Program Internet Site.

OMB Number: 3206-0246.

Affected Public: Individual or Households.

Number of Respondents: 761.

Estimated Time per Respondent: 1 hour.

Total Burden Hours: 761 hours.

Kellie Cosgrove Riley,
Director, Office of Privacy and Information Management.

[FR Doc. 2021-14505 Filed 7-7-21; 8:45 am]

BILLING CODE 6325-43-P